DEPARTMENT OF DEFENSE

Department of the Air Force

[Docket ID: USAF-2023-HQ-0007]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 23, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 59th Medical Wing Office of Science and Technology, 1632 Nellis Street, Bldg. 5406, Joint Base San Antonio-Lackland, TX 78236-7517, ATTN: Capt William R. Hoffman, USAF MC, or call 210-916-2203.

SUPPLEMENTARY INFORMATION:

Title; Associated Form; and OMB Number: Semi-Structured Interview Guide of Self-Reported Qualitative Factors that Influence Healthcare Utilization in Trainee and Civilian Airline Pilots; OMB Control Number 0701-TPHB.

Needs and Uses: The information collection requirement is necessary to receive verbal feedback from U.S. civilian, collegiate aviation trainee, and U.S. Air Force trainee pilots on their experiences seeking healthcare services. These interviews are part of a study examining experiences of military and civilian pilot healthcare seeking behaviors. The results of this study will be used to inform the Federal Aviation Administration (FAA) and U.S. Air Force line and medical leadership of (1) the perceived barriers pilots face when seeking medical care, (2) current effective measures already in place that address the subjective barrier pilots face when seeking medical care, and (3) potential interventions that should be prospectively researched to meet that study question.

Affected Public: Individuals or households.

Annual Burden Hours: 110.

Number of Respondents: 200.

Responses per Respondent: 1.

Annual Responses: 200.

Average Burden per Response: 33 minutes.

Frequency: Once.

Dated: April 18, 2023.
Aaron T. Siegel,
Alternate OSD Federal Register Liaison Officer, Department of Defense.

[FR Doc. 2023-08525 Filed 4-21-23; 8:45 am]

BILLING CODE 5001-06-P